SOCIAL SECURITY ADMINISTRATION

[Docket No. SSA 2008-0045]

Privacy Act of 1974, as Amended; Computer Matching Program (SSA/Health and Human Services, Administration for Children and Families, Office of Child Support Enforcement (OCSE) Match Number 1074.

AGENCY: Social Security Administration (SSA).

ACTION: Notice of the renewal of an existing computer matching program scheduled to expire on March 12, 2009.

SUMMARY: In accordance with the provisions of the Privacy Act, as amended, this notice announces the renewal of an existing computer matching program that SSA is currently conducting with HHS/ACF/OCSE.

DATES: SSA will file a report of the subject matching program with the Committee on Homeland Security and Governmental Affairs of the Senate; the Committee on Oversight and Government Reform of the House of Representatives; and the Office of Information and Regulatory Affairs, Office of Management and Budget (OMB). The renewal of the matching program will be effective as indicated below.

ADDRESSES: Interested parties may comment on this notice by either telefaxing to (410) 965-0201 or writing to the Deputy Commissioner for Budget, Finance and Management, 800 Altmeyer Building, 6401 Security Boulevard, Baltimore, MD 21235-6401. All comments received will be available for public inspection at this address.

FOR FURTHER INFORMATION CONTACT: The Deputy Commissioner for Budget, Finance and Management as shown above.

SUPPLEMENTARY INFORMATION:

A. General

The Computer Matching and Privacy Protection Act of 1988 (Pub. L. 100-503), amended the Privacy Act (5 U.S.C. 552a) by describing the conditions under which computer matching involving the Federal government could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, state or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: January 7, 2009.
Mary Glenn-Croft,
Deputy Commissioner for Budget, Finance and Management.

Notice of Computer Matching Program, Social Security Administration (SSA) with the Department of Health and Human Services, Administration for Children and Families, Office of Child Support Enforcement (HHS/ACF/OCSE).

A. Participating Agencies

SSA and OCSE.

B. Purpose of the Matching Program

The purpose of this agreement is to establish the conditions, terms, and safeguards under which OCSE agrees to the disclosure of quarterly wage, new hire, and unemployment insurance information to SSA. The matching program will assist SSA in establishing or verifying eligibility and/or payment amounts under the Supplemental Security Income (SSI) program, as authorized by the Social Security Act and by the Privacy Act.

C. Authority for Conducting the Matching Program

The legal authority for SSA to conduct this matching activity for SSI purposes is contained in sections 453(j)(4), 1631(e)(1)(B) and (f) of the Social Security Act, 42 U.S.C. 653(j)(4) and 1383(e)(1)(B) and (f), and 5 U.S.C. 552a(b)(3) and 552a(o), (p), (q), and (r).

D. Categories of Records and Individuals Covered by the Matching Program

1. Specified Data Elements Used in the Match

SSA will provide certain identifying information extracted from its Supplemental Security Record and Special Veterans Benefits (SSR) system of records to OCSE. OCSE and SSA will conduct a computerized comparison of the quarterly wage payment and unemployment insurance benefit information in the National Directory of New Hires of its Location and Collection System of records.

2. Systems of Records

OCSE will provide SSA electronic files containing quarterly wage and unemployment insurance information from its system of records, the Location and Collection System (HHS/OCSE, 09-90-0074) last published at 70 FR 21200 on April 25, 2005. Pursuant to U.S.C. 552a(b)(3), OCSE has established routine use to disclose the subject information.

SSA will match OCSE information with electronic files from its system of records, No. 60-0103, SSR (the Supplemental Security Record and Special Veterans Benefits) last published at 71 FR 1830 on January 11, 2006.

E. Inclusive Dates of the Matching Program

The matching program will become effective no sooner than 40 days after notice of the matching program is sent to Congress and the Office of Management and Budget, or 30 days after publication of this notice in the Federal Register, whichever date is later. The matching program will continue for 18 months from the effective date and may be extended for an additional 12 months thereafter, if certain conditions are met.

[FR Doc. E9-599 Filed 1-13-09; 8:45 am]

BILLING CODE 4191-02-P